DEPARTMENT OF ENERGY

Office of Energy Efficiency and Renewable Energy

State Energy Program (SEP) Special Projects

AGENCY: Golden Field Office, Department of Energy.

ACTION: Notice of issuance of the 2003 State Energy Program Special Projects Solicitation.

SUMMARY: The Office of Energy Efficiency and Renewable Energy of the Department of Energy (DOE) is anticipating the availability of financial assistance to the States for a group of special project activities. Funding is being provided by a number of programs in the Office of Energy Efficiency and Renewable Energy. States may apply to undertake any of the projects being offered by these programs. Financial Assistance will be awarded to the States separately for each special project, with activities to be carried out in conjunction with their efforts under SEP. The special projects' funding and activities are tracked separately so that the DOE Program Offices may follow the progress of individual projects.

DATES: The program solicitation is anticipated to be posted on the Industry Interactive Procurement System (IIPS) Web site in mid-February, 2003. Applications will be due in early to mid-May, 2003.

ADDRESSES: To obtain a copy of the solicitation, interested parties should access the DOE Golden Field Office Home Page at http://www.golden.doe.gov/businessopportunities.html, and click on the “Solicitations” button. The Golden Home Page will provide a link to the Solicitation in the IIPS Web site and provide instructions on using IIPS. The Solicitation can also be obtained directly through IIPS at http://e-center.doe.gov by browsing opportunities by Contract Activity, for those solicitations issued by the Golden Field Office. DOE will not issue paper copies of the solicitation.

IIPS provides the medium for disseminating solicitations, receiving financial assistance applications, and evaluating the applications in a paperless environment. The application must be submitted to IIPS by an eligible State applicant. For questions regarding the operation of IIPS, contact the IIPS Help Desk at IIPS_HelpDesk@e-center.doe.gov or at (800) 683-0751.

FOR FURTHER INFORMATION CONTACT: Andrea Lucero, DOE Golden Field Office, 1617 Cole Boulevard, Golden, CO 80401-3393 or via facsimile to Andrea Lucero at (303) 275-4788, or electronically to andrea_lucero@nrel.gov.

SUPPLEMENTARY INFORMATION: The projects must meet the relevant requirements of the program providing the funding, as well as of the SEP as specified in the 2003 State Energy Program Special Projects Solicitation. The goals of the special projects activities are to assist States accelerate deployment of energy efficiency and renewable energy technologies; facilitate the acceptance of emerging and underutilized energy efficiency and renewable energy technologies; and increase the responsiveness of Federally funded technology development efforts to private sector needs.

Fiscal Year 2003 is the eighth year special project activities have been funded in conjunction with the State Energy Program (10 CFR part 420). Most of these special projects are related to or based on similar efforts that have been funded by other DOE programs.

Availability of Fiscal Year 2003 Funds

With this publication, DOE is anticipating the availability of an estimated $16.3 million in new financial assistance awards from Fiscal Year 2003 appropriations. DOE's obligation for performance of this Solicitation is contingent upon the availability of appropriated funds from which financial assistance awards can be made.

The awards will be made through a competitive process. The programs that are participating in the State Energy Program Special Projects for Fiscal Year 2003, with the estimated amount of funding available for each, are as follows:

• Clean Cities: The program will provide funds to support the deployment of alternative fuels and alternative fuel vehicles (AFV) in the following four categories: (1) Projects that promote acquisition of commercially-available AFVs that maximize alternative fuel use, especially when those vehicles support an AFV niche market activity center or niche deployment strategy; (2) projects that promote AFV infrastructure development; (3) Projects that promote the acquisition of AFV school buses; (4) Projects that support coalition activities ($5,000,000).

• Industrial Technology Program: The objective is to broaden the impact of investments in advanced industrial technologies and practices geared toward energy savings and waste reduction. This will be done through increased partnerships composed of State agencies, universities and local small and mid-sized manufacturing entities ($2,000,000).

• Building Codes and Standards: Support States' actions to adopt, update, implement, enforce and evaluate the effectiveness of their residential and commercial building energy codes ($1,650,000).

• Rebuild America: Support Rebuild America State Programs which are consistent with the Rebuild America Strategic Plan that identifies specific and measurable building and related energy saving projects. The goal is for 50% of the partnerships to have completed at least one major building renovation project by 2005. The partnerships must define a program and process that would show a significant opportunity for completion of building projects ($3,000,000).

• Building America: Applications should include research that coordinates with Building America's goal of creating building system performance packages that make new houses 40% to 70% more energy efficient than those built to local building code standards. Existing houses should be 30% more energy efficient than the local building code ($300,000).

• Federal Energy Management Program: Applications should promote and facilitate sustainable design and construction, energy efficient operations and maintenance, distributed and renewable energy, renewable energy purchases, siting of renewable power on Federal sites, and assessment and implementation of load and energy reduction techniques ($500,000).

• Solar Technology Program: To determine if islanding is a reasonable concern for distributed energy resources, grants are available to utilities to conduct measurements of the actual watts, Volt-Amp Reactives (VARs), and harmonics present on 12 distribution lines ($250,000).

• State Wind Energy Support: Applications are sought for (1) State outreach and technical assistance, and (2) regional consortia on transmissions ($400,000).

• Distributed Energy and Electric Reliability—Transmission Reliability, Energy Storage, and Interconnection: Applications are sought for (1) Energy Storage, Renewable Generation Dispatch, and Transmission Stability, and (2) Electrical Interconnection Regulatory Education and Outreach ($205,000).

• Distributed Energy and Electric Reliability—Regional Combined Cooling Heating and Power Applications Centers: The objectives of the Regional Application Centers will be to provide essential and appropriate applied research and development support, focused on the technology transfer and deployment of advanced Combined Heat and Power (CHP) technologies. The Regional Application Centers will achieve this objective through targeted education and outreach programs as well as project assistance ($1,200,000).

• Distributed Energy and Electric Reliability—High Temperature Superconductivity, State Outreach Centers: Project requests are for the development and facilitation of State meetings and workshops designed to disseminate information on the technical, economic, environmental feasibility, and effectiveness of High Temperature Superconductivity (HTS) technologies and their systems integration approach ($400,000).

• Geothermal Outreach: Program funding will be provided for outreach and information sharing with State-based agricultural/rural sectors in States with direct use geothermal resources. Additional funding will be provided for projects that update the inventory of geothermal resources in a given State (300,000).

• Biomass: To foster significant penetration of biomass-based technologies and products, cost-shared proposals are sought under two broad categories (1) outreach and information transfer to consumers, farmers, and industry; or (2) Development of innovative State or local incentives that facilitate increased market penetration of bio-based products and biomass-based technologies ($600,000).

• Residential Deployment: The goal of this solicitation is to develop self-sustaining energy efficiency programs for the existing home market that incorporate marketing efforts, builder training/certification, home inspections, and quality assurance of contractor work ($500,000).

Restricted Eligibility

Eligible Applicants under this solicitation are limited to the 50 States, the District of Columbia, American Samoa, Guam, the Northern Mariana Islands, Puerto Rico, and the U. S. Virgin Islands. Applications must be submitted by the State Energy Office or other agency responsible for administering the State Energy Program pursuant to 10 CFR part 420, although States may work in collaboration with non-State partners. For convenience, the term “State” in this solicitation refers to all eligible Applicants.

The Catalog of Federal Domestic Assistance number assigned to the State Energy Program Special Projects is 81.119.

Requirements for cost sharing contributions are addressed in each category. Cost sharing contributions beyond any required percentage is desirable.

Evaluation Review and Criteria

A first tier review for compliance will occur at the appropriate DOE Regional Office. Applications found to be in compliance will undergo a merit review process by panels comprised of members representing the participating programs at DOE's Office of Energy Efficiency and Renewable Energy. The program offices recommend projects to the Office of Weatherization and Intergovernmental Program Manager who is the designated selecting official. DOE reserves the right to fund, in whole or in part, any, all or none of the applications submitted in response to this notice.

Issued in Golden, Colorado, on January 29, 2003.
Jerry L. Zimmer,
Director, Office of Acquisition and Financial Assistance.

[FR Doc. 03-2910 Filed 2-5-03; 8:45 am]

BILLING CODE 6450-01-P